NUCLEAR REGULATORY COMMISSION

[NRC-2009-0176]

Notice of Issuance of Regulatory Guide

AGENCY: Nuclear Regulatory Commission.

ACTION: Notice of issuance and availability of Regulatory Guide 1.189, Revision 2.

FOR FURTHER INFORMATION CONTACT: R.A. Jervey, U.S. Nuclear Regulatory Commission, Washington, DC 20555-0001, telephone (301) 251-7404 or e-mail to RAJ@nrc.gov.

SUPPLEMENTARY INFORMATION:

I. Introduction

The U.S. Nuclear Regulatory Commission (NRC) is issuing a revision to an existing guide in the agency's “Regulatory Guide” series. This series was developed to describe and make available to the public information such as methods that are acceptable to the NRC staff for implementing specific parts of the agency's regulations, techniques that the staff uses in evaluating specific problems or postulated accidents, and data that the staff needs in its review of applications for permits and licenses.

Revision 2 of Regulatory Guide 1.189, “Fire Protection for Nuclear Power Plants,” was issued with a temporary identification as Draft Regulatory Guide, DG-1214. The NRC staff developed this regulatory guide to provide a comprehensive fire protection guidance document and to identify the scope and depth of fire protection program (FPP) that the staff would consider acceptable for nuclear power plants. This revision incorporates guidance developed to address and close previously unresolved issues including spurious actuation of components as a result of fire affecting electrical circuits.

The regulatory framework that the U.S. Nuclear Regulatory Commission (NRC) has established for nuclear plant FPPs consists of a number of regulations and supporting guidelines, including, but not limited to, Title 10 of the Code of Federal Regulations, Part 50, “Domestic Licensing of Production and Utilization Facilities,” (10 CFR part 50), Appendix A, “General Design Criteria for Nuclear Power Plants,” General Design Criterion (GDC) 3, “Fire Protection”; 10 CFR 50.48, “Fire Protection”; Appendix R, “Fire Protection Program for Nuclear Power Facilities Operating Prior to January 1, 1979,” to 10 CFR part 50; regulatory guides; generic communications (e.g., generic letters [GLs], regulatory issue summaries [RISs], bulletins, and information notices [INs]); NUREG-series reports, including NUREG-0800, “Standard Review Plan [SRP] for the Review of Safety Analysis Reports for Nuclear Power Plants”; and industry standards. Not all fire protection regulations promulgated by the NRC apply to all plants. Regulatory guides do not always refer to regulations as requirements. Licensees should refer to their plant-specific licensing bases to determine the applicability of a specific regulation to a specific plant.

II. Further Information

In April 2009, DG-1214 was published with a public comment period of 60 days from the issuance of the guide. The public comment period closed on May 29, 2009. The staff's responses to the public comments are located in NRC's Agencywide Documents Access and Management System under accession number ML092580570. The regulatory analysis included within DG-1214 is valid and applicable to the issue of this revision. Electronic copies of Regulatory Guide 1.189, Revision 2 are available through the NRC's public Web site under “Regulatory Guides” at http://www.nrc.gov/reading-rm/doc-collections/.

In addition, regulatory guides are available for inspection at the NRC's Public Document Room (PDR) located at Room O-1F21, One White Flint North, 11555 Rockville Pike, Rockville, Maryland 20852-2738. The PDR's mailing address is USNRC PDR, Washington, DC 20555-0001. The PDR can also be reached by telephone at (301) 415-4737 or (800) 397-4209, by fax at (301) 415-3548, and by e-mail to pdr.resource@nrc.gov.

Regulatory guides are not copyrighted, and NRC approval is not required to reproduce them.

Dated at Rockville, Maryland, this 26th day of October, 2009.
For the Nuclear Regulatory Commission.
John N. Ridgely,
Acting Chief, Regulatory Guide Development Branch, Division of Engineering, Office of Nuclear Regulatory Research.

[FR Doc. E9-26278 Filed 10-30-09; 8:45 am]

BILLING CODE 7590-01-P